DEPARTMENT OF TRANSPORTATION

Federal Railroad Administration

Petition for Waiver of Compliance

In accordance with part 211 of Title 49 Code of Federal Regulations (CFR), notice is hereby given that the Federal Railroad Administration (FRA) received a request for a waiver of compliance from certain requirements of its safety standards. The individual petition is described below including, the party seeking relief, the regulatory provision involved, the nature of the relief being requested, and the petitioner's arguments in favor of relief.

RailRunner, Manufacturer of “IRV®” Intermodal Rail Vehicle

(Waiver Petition Docket Number FRA-1999-6416)

RailRunner is seeking a permanent waiver of compliance with the Railroad Safety Appliance Standards, 49 CFR 231.1(a)(3)(I); § 231.1(a)(3)(ii) which specifies the operation and location of the hand brake shaft; § 231.1 (b) through (j) which specifies the location, dimension and manner of application of brake steps, sill steps, end ladder clearance, roof handholds, side handholds, horizontal handholds and vertical handholds; and Railroad Freight Car Safety Standards, 49 CFR part 215, Appendix A (I) (4) which restrict the use of an “I” section compression or tension member on truck side frame, for RailRunner Intermediate Rail Vehicle equipment.

The RailRunner car-less intermodal system consists of modified semi-trailers, or container chassis, interconnected by special purpose rail bogies. Trailers are fitted with receivers at each end to allow mating with the bogies. The trailers are also fitted with air lines to provide air for brakes and air springs.

The bogie is a fabricated radial truck with air springs. The air springs are used to lift the trailers to proper height above the rail, and they also act as the secondary suspension. Shear pads provide lateral and longitudinal suspension stiffness. The bogie uses conventional 33-inch wheel sets and truck mounted brakes. Each bogie is fitted with an ABDX control valve and a lever-type hand brake.

The trailers rest on the upper frame of the bogie, which carries the vertical load. In-train longitudinal forces are transmitted through a continuous drawbar between the trailers. The drawbar is connected to each trailer through a 3-inch diameter pin.

The front and rear of the train are fitted with a transition bogie. This bogie has an identical lower frame and suspension arrangement to the intermediate bogie. The upper frame is basically a conventional railcar center sill and draft sill. The draft sill holds a top and bottom shelf coupler with an M-901E draft gear. The sill also supports a crossover platform. The transition bogie allows the RailRunner train to be coupled to a locomotive or other standard railcars.

A RailRunner bogie has two lower frames, one over each axle and one upper frame. The lower frames are linked at the center of the bogie to allow frames and axles to align radial in a curve. The upper frame serves two functions. Its primary function is to distribute the weight of two trailer ends to the lower frame via the suspension system. The second function of the upper frame is to lift the trailer to operating height. This is accomplished in two steps. First, the upper frame is shaped like a ramp. When a trailer is backed up the ramp it is raised high enough for the rubber tires to clear the ground. This removes the friction between the rubber tires and the ground, allowing the air springs, which raises the trailer further.

There is a parallel arrangement for air springs and coil springs. When the bogie is in the lowered position, with the air bags deflated, the coil springs fit inside the upper frame. When the bogie is in the “run” position, with air bags inflated, a plate is rotated into position covering the coil springs hole in the upper frame. At this point, if the air springs inadvertently deflated, the upper frame rests on the coil springs.

The 6X11 roller bearings are rated for a total bogie weight-on-rail of 110,000 pounds (70-ton railcar).

The petitioner states that the RailRunner System passed all Chapter XI tests at the Transportation Technology Center Inc., (TTCI).

Interested parties are invited to participate in these proceedings by submitting written views, data, or comments. FRA does not anticipate scheduling a public hearing in connection with these proceedings since the facts do not appear to warrant a hearing. If any interested party desires an opportunity for oral comment, they should notify FRA, in writing, before the end of the comment period and specify the basis for their request.

All communications concerning these proceedings should identify the appropriate docket number (e.g., Waiver Petition Docket Number 1999-6416) and must be submitted to the Docket Clerk, DOT Docket Management Facility, Room PL-401 (Plaza Level), 400 7th Street, SW, Washington, DC 20590. Communications received within 45 days of the date will be considered as far as practicable. All written communications concerning these proceedings are available for examination during regular business hours (9 a.m.-5 p.m.) at the above facility. All document in the public docket are also available for inspection and copying on the Internet at the docket facility's web site http://dms.dot.gov.

Issued in Washington, D.C. on January 18, 2000.

Grady C. Cothen, Jr.,
Deputy Associate Administrator for Safety Standards and Program Development.

[FR Doc. 00-1498 Filed 1-20-00; 8:45 am]

BILLING CODE 4910-06-P